COMMITTEE FOR THE IMPLEMENTATION OF TEXTILE AGREEMENTS

Establishment of Agreed Import Levels and the ELVIS (Electronic Visa Information System) Requirement for Certain Cotton, Wool, Man-Made Fiber, Silk Blend and Other Vegetable Fiber Textiles and Textile Products Produced or Manufactured in the People's Republic of China

December 13, 2005.

AGENCY: Committee for the Implementation of Textiles Agreements (CITA).

ACTION: Directive to Commissioner, U.S. Customs and Border Protection (CBP) establishing agreed levels.

EFFECTIVE DATE: January 1, 2006.

FOR FURTHER INFORMATION CONTACT: Ross Arnold, International Trade Specialist, Office of Textiles and Apparel, U.S. Department of Commerce, (202) 482-4212. For information on the quota status of these limits, refer to U.S. Customs and Border Protection website (http://www.cbp.gov), or call (202) 344-2650. For information on embargoes and quota re-openings, refer to the Office of Textiles and Apparel Web site at http://otexa.ita.doc.gov.

SUPPLEMENTARY INFORMATION:

Authority: Section 204 of the Agricultural Act of 1956, as amended (7 U.S.C. 1854); Executive Order 11651 of March 3, 1972, as amended.

In the Memorandum of Understanding (MOU) between the Governments of the United States of America and the People's Republic of China concerning Trade in Textile and Apparel Products, signed and dated November 8, 2005, and Paragraph 242 of the Report of the Working Party for the Accession of China to the World Trade Organization, the Governments of the United States and China established agreed levels for certain cotton, wool, man-made fiber, silk blend and other vegetable fiber textiles and textile products, produced or manufactured in China and exported to the United States during three one-year periods beginning on January 1, 2006 and extending through December 31, 2008.

In addition, the United States and China established an Electronic Visa Information System (ELVIS) Arrangement, in accordance with Annex III of the MOU.

The agreed levels are effective on January 1, 2006. These agreed levels may be adjusted during the course of the year for “carryforward” under the terms of the MOU.

Baby socks in HTS numbers 6111.20.6050, 6111.30.5050 and 6111.90.5050 shall be counted in dozen pairs for quota and ELVIS purposes. These baby socks are subject to the quota level for 332/432/632-T and the sublevel for 332/432/632-B but the correct category designation 239 will be required at the time of entry for quota and ELVIS purposes.

In the letter published below, the Chairman of CITA directs the Commissioner, U.S. Customs and Border Protection (CBP), to establish the 2006 limits. This arrangement provides for electronic transmission of visa information to CBP by the Government of China for textile products exported to the United States which describes the shipment and includes the visa number assigned to the shipment. The transmission certifies the country of origin and authorizes the shipment to be charged against any applicable quota. The Government of China is required to issue an ELVIS transmission for shipments of certain textile products, produced or manufactured in China and exported on or after January 1, 2006. The United States recognizes that China shall be free to issue additional documents, such as paper visas or certificates of origin. While the additional documents will not be a requirement of entry into the United States, CBP may review these documents on a case-by-case basis.

A description of the textile and apparel categories in terms of HTS numbers is available in the CORRELATION: Textile and Apparel Categories with the Harmonized Tariff Schedule of the United States (refer to the Office of Textiles and Apparel Web site at http://otexa.ita.doc.gov).

Philip J. Martello,
Acting Chairman, Committee for the Implementation of Textile Agreements.

Committee for the Implementation of Textile Agreements

December 13, 2005.

Commissioner,

U.S. Customs and Border Protection, Washington, DC 20229.

Dear Commissioner: Pursuant to the Memorandum of Understanding between the Governments of the United States of America and the People's Republic of China, Concerning Trade in Textiles and Apparel Products, dated November 8, 2005, you are directed to prohibit, effective on January 1, 2006, entry into the United States for consumption and withdrawal from warehouse for consumption of cotton, wool, man-made fiber, silk blend and other vegetable fiber textiles and textile products in the following categories and HTS numbers 6111.20.6050, 6111.30.5050 and 6111.90.5050, produced or manufactured in China and exported during the twelve-month period beginning on January 1, 2006 and extending through December 31, 2006, in excess of the following agreed levels:

Category | Restraint Period
200/301 | 7,529,582 kilograms.
222 | 15,966,487 kilograms.
229 | 33,162,019 kilograms.
332/432/632-T (plus baby socks) ¹ | 64,386,841 dozen pairs, of which not more than 61,146,461 dozen pairs shall be in categories 332/432/632-B (plus baby socks) ².
338/339pt. ³ | 20,822,111 dozen.
340/640 | 6,743,644 dozen.
345/645/646 | 8,179,211 dozen.
347/348 | 19,666,049 dozen.
349/649 | 22,785,906 dozen.
352/652 | 18,948,937 dozen.
359-S/659-S ⁴ | 4,590,626 kilograms.
363 | 103,316,873 numbers.
443 | 1,346,082 numbers.
447 | 215,004 dozen.
619 | 55,308,506 square meters.
620 | 80,197,248 square meters.
622 | 32,265,013 square meters.
638/639pt. ⁵ | 8,060,063 dozen.
647/648pt. ⁶ | 7,960,355 dozen.
666pt. ⁷ | 964,014 kilograms.
847 | 17,647,255 dozen.
¹ Categories 332/432/632-T: baby socks: only HTS numbers 6111.20.6050, 6111.30.5050 and 6111.90.5050; within Category 632: only HTS numbers 6115.20.9010, 6115.93.6020, 6115.93.9020, 6115.99.1420 and 6115.99.1820.
² Categories 332/432/632-B: baby socks: only HTS numbers 6111.20.6050, 6111.30.5050 and 6111.90.5050; within Category 632: only HTS numbers 6115.93.6020, 6115.93.9020, 6115.99.1420 and 6115.99.1820.
³ Categories 338/339pt: all HTS numbers except: 6110.20.1026, 6110.20.1031, 6110.20.2067, 6110.20.2077, 6110.90.9067, and 6110.90.9071.
⁴ Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.
⁵ Categories 638/639pt.: all HTS numbers except: 6110.30.2051, 6110.30.2061, 6110.30.3051, 6110.30.3057, 6110.90.9079, and 6110.90.9081.
⁶ Categories 647/648pt.: all HTS numbers except 6203.43.3510, 6204.63.3010, 6210.40.5031, 6210.50.5031, 6211.20.1525 and 6211.20.1555.
⁷ Category 666pt.: only HTS numbers 6303.12.0010 and 6303.92.2030.

The agreed levels set forth above are subject to adjustment pursuant to the current MOU between the Governments of the United States and China.

Textile products in the above categories and HTS numbers 6111.20.6050, 6111.30.5050 and 6111.90.5050 which have been exported to the United States prior to January 1, 2006 shall not be subject to this directive.

Textile products in those same categories and HTS numbers 6111.20.6050, 6111.30.5050 and 6111.90.5050 which have been released from the custody of U.S. Customs and Border Protection under the provisions of 19 U.S.C. 1448(b) or 1484(a)(1) prior to the effective date of this directive shall not be denied entry under this directive.

In addition, under the terms of section 204 of the Agricultural Act of 1956, as amended (7 U.S.C. 1854), Executive Order 11651 of March 3, 1972, as amended, and pursuant to the Memorandum of Understanding (MOU) between the Governments of the United States of America and the People's Republic of China Concerning Trade in Textile and Apparel Products, signed and dated November 8, 2005, and Paragraph 242 of the Report of the Working Party for the Accession of China to the World Trade Organization, the governments of the United States and China, you are directed to prohibit, effective on January 1, 2006, entry into the Customs territory of the United States (i.e., the 50 states, the District of Columbia and the Commonwealth of Puerto Rico) for consumption and withdrawal from warehouse for consumption of cotton, wool, man-made fiber, silk blend and other vegetable fiber textile products in the categories and HTS numbers 6111.20.6050, 6111.30.5050 and 6111.90.5050 subject to the agreed levels of restraint under the terms of the MOU, produced or manufactured in China and exported on or after January 1, 2006 for which the Government of China has not transmitted an appropriate ELVIS (Electronic Visa Information System) transmission fully described below. Should a category, including a merged category, or part category, be added to or modified in the MOU, the additional or modified category shall also be included in the coverage of this arrangement.

Baby socks in HTS numbers 6111.20.6050, 6111.30.5050 and 6111.90.5050 shall be counted in dozen pairs for quota and ELVIS purposes. These baby socks are subject to the quota level for 332/432/632-T and the sublevel for 332/432/632-B but the correct category designation 239 will be required at the time of entry for quota and ELVIS purposes.

An ELVIS message must accompany each commercial shipment of the aforementioned textile products.

A. Each ELVIS message will include the following information:

i. The visa number. The visa number shall be in the standard nine digit letter format, beginning with one numeric digit corresponding to the last digit of the year of export, followed by the two character alpha country code specified by the International Organization for Standardization (ISO) (the code for China is “CN”), and ending with a six digit numerical serial number identifying the shipment; e.g., 6CN123456. The first digit after the ISO code should not be a “9”.

ii. The date of issuance. The date of issuance shall be the day, month and year on which the visa was issued.

iii. The correct category(s), part category(s), merged category(s), quantity(s) and unit(s) of quantity in the shipment as set forth in the U.S. Department of Commerce Correlation and in the Harmonized Tariff Schedule of the United States, annotated or successor documents. e.g., “Cat 340/640-510 dz. ”. Products covered by a merged agreed level must be accompanied by either a transmission referring to the merged category or by a transmission referring to the specific category corresponding to the actual shipment (e.g., if the shipment consists of both Category 340 and Category 640 merchandise, it may be transmitted as “340/640”, if the shipment consists solely of Category 340 merchandise, it may be transmitted as “Category 340”, but not as “Category 640”). Quantities must be stated in whole numbers. Decimals or fractions will not be accepted.

iv. The manufacturer ID number (MID). The MID shall begin with “CN” followed by the first three characters from each of the first two words (of the English rendition) of the name of the entity performing the origin-conferring operations, followed by the largest number on the address line of the entity up to the first four digits, followed by the first three letters from the city name where the entity is located.

B. Entry of a shipment shall not be permitted:

i. if an ELVIS transmission has not been received for the shipment from China;

ii. if the ELVIS transmission for that shipment is missing any of the following:

a. visa number

b. category, part category, or merged category

c. quantity

d. unit of quantity

e. date of issuance

f. manufacturer ID number

iii. if the ELVIS transmission for the shipment does not match the information supplied by the importer or the Customs broker acting as an agent on behalf of the importer with regard to any of the following:

a. visa number

b. category, part category, or merged category

c. unit of quantity

iv. if the quantity being entered is greater than the quantity transmitted.

v. if the visa number has previously been used, except in the case of a split shipment, or canceled.

C. A new, correct ELVIS transmission from China is required before a shipment that has been denied entry for one of the circumstances mentioned in paragraph B.i-v will be released.

D. If the quantity in the ELVIS transmission is greater than that of the shipment, the United States shall permit entry and shall charge only the amount entered against any applicable level.

E. Shipments will not be released for forty-eight hours or 2 calendar days in the event of a system failure. If system failure exceeds forty-eight hours or 2 calendar days, for the remaining period of the system failure, CBP will only release shipments on the basis of the visa data provided by the Ministry of Commerce. If the Ministry of Commerce is able to provide that data by some means other than an ELVIS transmission. The Ministry of Commerce shall promptly retransmit all data that was affected by the system failure when the system is functioning normally.

F. If a shipment from China has been allowed entry into the commerce of the United States with an incorrect ELVIS transmission, or no ELVIS transmission, and the importer does not comply with a CBP request to redeliver the shipment to CBP, CBP will charge the correct quantity and category of the shipment against the appropriate agreed level.

Other Provisions.

A. The date of export is the actual date the merchandise finally leaves the country of origin. For merchandise exported by carrier, this is the day on which the carrier last departs the country of origin.

B. Merchandise imported for the personal use of the importer and not for resale, regardless of value, and properly marked commercial sample shipments valued at U.S.$800 or less, do not require an ELVIS transmission for entry and shall not be charged to agreement levels.

In carrying out the above direction, the Commissioner should construe the term “customs territory of the United States” to include only the 50 States, the District of Columbia and Puerto Rico.CITA has determined that this action falls within the foreign affairs exception of the rulemaking provisions of 5 U.S.C. 553(a)(1).

Sincerely,

Philip J. Martello,

Acting Chairman, Committee for the Implementation of Textile Agreements.

[FR Doc. 05-24175 Filed 12-13-05; 5:13 pm]

BILLING CODE 3510-DS-S